FEDERAL COMMUNICATIONS COMMISSION

47 CFR Part 1

[DA 09-682]

FCC Announces Revised Application Fee Schedule

AGENCY: Federal Communications Commission.

ACTION: Final rule; announcement of revised application fee schedule.

SUMMARY: In this document that was released on March 26, 2009, the Commission announces that effective April 28, 2009, the application fees charged to licensees and permittees will increase to reflect the change in the Consumer Price Index (CPI-U).

DATES: Effective April 28, 2009.

FOR FURTHER INFORMATION CONTACT: CORES Helpdesk at 1-877-480-3201 (Option 4).

SUPPLEMENTARY INFORMATION: According to an Order published in the Federal Register at 74 FR 5107, January 29, 2009, the application fees charged to licensees and permittees by the Federal Communications Commission (FCC) will increase effective April 28, 2009 to reflect the change in the Consumer Price Index-Urban (CPI-U). Section 8(b) of the Communications Act of 1934, as amended in the Omnibus Budget Reconciliation Act of 1989, requires cost-of-living adjustments to the application fee schedule every two years after October 1, 1991. Increases in the dollar amount of all section 8 application fees are based on the percentage change in the CPI-U from the date of enactment of the legislation. The new Schedule of Application Fees reflects the net change in the CPI-U of 4.9 percent, calculated from October 2005 through October 2007 in accordance with previously § 1.1115 (currently § 1.1117) of part 1 of the Commission's rules.

Wireless Telecommunications Services application fees that have an associated regulatory fee that must be paid at the time of application filing are noted by an asterisk in the Schedule. Please refer to the most recent Wireless Telecommunications Bureau Fee Filing Guide for the total fee that is due for these specific services.

Copies of all fee filing guides for each of the Bureaus/Offices that have feeable services may be obtained on the Internet at http://www.fcc.gov/fees/appfees.html. Copies may also be obtained by calling Forms Distribution at (202) 418-3676 or toll free by calling 1-800-418-3676. You may also pick up the filing guides in the Commission Room TW-B200.

All revenues generated by section 8 Application Fees are deposited in the General Fund of the United States Treasury.

For additional information concerning the new Schedule of Section 8 Application Fees, please contact the CORES Helpdesk at 1-877-480-3201 (Option 4).

Federal Communications Commission.
Marlene H. Dortch,
Secretary.

[FR Doc. E9-8369 Filed 4-10-09; 8:45 am]

BILLING CODE 6712-01-P